SMALL BUSINESS ADMINISTRATION

13 CFR Part 121

RIN 3245-AF66

Small Business Size Standards; Adoption of Size Standards by 2007 North American Industry Classification System for Size Standards

AGENCY: Small Business Administration.

ACTION: Direct final rule; correcting amendment.

SUMMARY: The U.S. Small Business Administration (SBA) is correcting the direct final rule it published in the Federal Register on August 29, 2007, that amended its Small Business Size Regulations by incorporating the Office of Management and Budget's (OMB) 2007 modifications of the North American Industry Classification System (NAICS) into its table of small business size standards. The direct final rule published on August 29, 2007 established an incorrect small business size standard for NAICS 517919, All Other Telecommunications. The correct small business size standard is $23.0 million in average annual receipts. Also, the descriptive titles for 19 NAICS codes are also being amended by this action. SBA is changing the industry descriptions in its table of size standards so they will match the descriptions published by OMB in NAICS 2007.

DATES: Effective Date: March 11, 2008.

FOR FURTHER INFORMATION CONTACT: Carl Jordan, Program Analyst, Division of Size Standards, at (202) 205-6618 or sizestandards@sba.gov.

SUPPLEMENTARY INFORMATION: SBA published a direct final rule in the August 29, 2007 Federal Register (72 FR 49639) to amend its Small Business Size Regulations by incorporating the OMB 2007 modifications of the North American Industry Classification System (NAICS) into its table of small business size standards.

In the direct final rule, SBA included Table 1 which provided rules for establishing size standards upon incorporating NAICS 2007 into its table of size standards. Rule #3 in Table 1 stated the following:

Table 1
If the NAICS 2007 industry is composed of | The size standard for the NAICS industry will be
3. More than one NAICS 2002 industry; parts of more than one NAICS 2002 industry; or one or more NAICS 2002 industry and part(s) of one or more NAICS 2002 industry, and they do not all have the same size standard. | The same size standard as for the NAICS 2002 industry or NAICS 2002 industry part(s) that most closely matches the economic activity described by the NAICS 2007 industry.

Applying Rule #3 from Table 1, SBA had indicated on pages 49642 and 49643 of the direct final rule that the small business size standard for NAICS 517919, All Other Telecommunications, would be $23.0 million in average annual receipts. However, SBA incorrectly stated in item 2(n) on page 49644 that the small business size standard is $23.5 million in average annual receipts.

Because SBA properly applied Rule #3 from Table 1 of the direct final rule, the correct size standard is $23.0 million, and this action corrects 13 CFR 121.201 to reflect the correct size standard.

In addition, SBA is correcting the Industry Descriptions for 19 NAICS industries in its table of size standards to match the industry descriptions in NAICS 2007. Table 2, below, is a list of the NAICS codes with the titles as published in the August 29, 2007 Federal Register, and as corrected. The following changes to the industry descriptions do not affect any small business size standards; the small business size standards for these NAICS codes remain unchanged.

Table 2
NAICS code | Industry descriptions in August 29, 2007 Federal Register direct final rule | Industry descriptions corrected
112920 | Horse and Other Equine Production | Horses and Other Equine Production.
311340 | Non-Chocolate Confectionery Manufacturing | Nonchocolate Confectionery Manufacturing.
311613 | Rendering and Meat By-Product Processing | Rendering and Meat Byproduct Processing.
322223 | Plastics, Foil, and Coated Paper Bag Manufacturing | Coated Paper Bag and Pouch Manufacturing.
323118 | Blankbook, Loose-leaf Binder and Device Manufacturing | Blankbook, Looseleaf Binders and Devices Manufacturing.
326111 | Unsupported Plastics Bag Manufacturing | Plastics Bag and Pouch Manufacturing.
326112 | Unsupported Plastics Packaging Film and Sheet Manufacturing | Plastics Packaging Film and Sheet (including Laminated) Manufacturing.
326113 | Unsupported Plastics Film and Sheet (except Packaging) Manufacturing | Unlaminated Plastics Film and Sheet (except Packaging) Manufacturing.
326121 | Unsupported Plastics Profile Shapes Manufacturing | Unlaminated Plastics Profile Shape Manufacturing.
326122 | Plastics Pipe and Pipe Fitting Manufacturing | Plastics Pipe and Pipe Fitting Manufacturing.
326130 | Laminated Plastics Plate, Sheet and Shape Manufacturing | Laminated Plastics Plate, Sheet (except Packaging), and Shape Manufacturing.
331221 | Cold-Rolled Steel Shape Manufacturing | Rolled Steel Shape Manufacturing.
485113 | Bus and Motor Vehicle Transit Systems | Bus and Other Motor Vehicle Transit Systems.
522298 | All Other Non-Depository Credit Intermediation | All Other Nondepository Credit Intermediation.
522320 | Financial Transactions Processing, Reserve, and Clearing House Activities | Financial Transactions Processing, Reserve, and Clearinghouse Activities.
561330 | Employee Leasing Services | Professional Employer Organizations.
721191 | Bed and Breakfast Inns | Bed-and-Breakfast Inns.
812921 | Photo Finishing Laboratories (except One-Hour) | Photofinishing Laboratories (except One-Hour).
812922 | One-Hour Photo Finishing | One-Hour Photofinishing.

List of Subjects in 13 CFR Part 121

Administrative practice and procedure, Government procurement, Government property, Grant programs—business, Individuals with disabilities, Loan programs—business, Reporting and recordkeeping requirements, Small businesses.

For the reasons set forth in the preamble to this rule, SBA amends 13 CFR part 121 as follows:

PART 121—SMALL BUSINESS SIZE REGULATIONS

1. The authority citation for part 121 continues to read as follows:

Authority: 15 U.S.C. 632, 634(b)(6), 636(b), 637(a), 644, and 662(5); and Pub. L. 105-135, sec. 401, et seq., 111 Stat, 2592.

2. Amend § 121.201, in the table “Small Business Size Standards by NAICS Industry” as follows:

a. Revise the industry description of NAICS code 112920 “Horses and Other Equine Production” to read “Horses and Other Equine Production”.

b. Revise the industry description of NAICS code 311340 “Non-Chocolate Confectionery Manufacturing” to read “Nonchocolate Confectionery Manufacturing”.

c. Revise the industry description of NAICS code 311613 “Rendering and Meat By-Product Processing” to read “Rendering and Meat Byproduct Processing”.

d. Revise the industry description of NAICS code 322223 “Plastics, Foil, and Coated Paper Bag Manufacturing” to read “Coated Paper Bag and Pouch Manufacturing”.

e. Revise the industry description of NAICS code 323118 “Blankbook, Loose-leaf Binders and Devices Manufacturing” to read “Blankbook, Looseleaf Binder and Device Manufacturing”.

f. Revise the industry description of NAICS code 326111 “Unsupported Plastics Bag Manufacturing” to read “Plastics Bag and Pouch Manufacturing”.

g. Revise the industry description of NAICS code 326112 “Unsupported Plastics Packaging Film and Sheet Manufacturing” to read “Plastics Packaging Film and Sheet (including Laminated) Manufacturing”.

h. Revise the industry description of NAICS code 326113 “Unsupported Plastics Film and Sheet (except Packaging) Manufacturing” to read “Unlaminated Plastics Film and Sheet (except Packaging) Manufacturing”.

i. Revise the industry description of NAICS code 326121 “Unsupported Plastics Profile Shapes Manufacturing” to read “Unlaminated Plastics Profile Shape Manufacturing”.

j. Revise the industry description of NAICS code 326122 “Plastics Pipe and Pipe Fitting Manufacturing” to read “Plastics Pipe and Pipe Fitting Manufacturing”.

k. Revise the industry description of NAICS code 326130 “Laminated Plastics Plate, Sheet and Shape Manufacturing” to read “Laminated Plastics Plate, Sheet (except Packaging), and Shape Manufacturing”.

l. Revise the industry description of NAICS code 331221 “Cold-Rolled Steel Shape Manufacturing” to read “Rolled Steel Shape Manufacturing”.

m. Revise the industry description of NAICS code 485113 “Bus and Motor Vehicle Transit Systems” to read “Bus and Other Motor Vehicle Transit Systems”.

n. Revise the Size standards in millions of dollars amount in the entry for 517919 to read “$23.0”.

o. Revise the industry description of NAICS code 522298 “All Other Non-Depository Credit Intermediation” to read “All Other Nondepository Credit Intermediation”.

p. Revise the industry description of NAICS code 522320 “Financial Transactions Processing, Reserve, and Clearing House Activities” to read “Financial Transactions Processing, Reserve, and Clearinghouse Activities”.

q. Revise the industry description of NAICS code 561330 “Employee Leasing Services” to read “Professional Employer Organizations”.

r. Revise the industry description of NAICS code 721191 “Bed and Breakfast Inns” to read “Bed-and-Breakfast Inns”.

s. Revise the industry description of NAICS code 812921 “Photo Finishing Laboratories (except One-Hour)” to read “Photofinishing Laboratories (except One-Hour)”.

t. Revise the industry description of NAICS code 812922 “One-Hour Photo Finishing” to read “One-Hour Photofinishing”.

Dated: March 4, 2008.
Arthur E. Collins,
Director, Government Contracting.

[FR Doc. E8-4788 Filed 3-10-08; 8:45 am]

BILLING CODE 8025-01-P